POSTAL SERVICE

Privacy Act of 1974; System of Records

AGENCY: Postal Service.

ACTION: Notice of modification to existing systems of records and the addition of one new system of records.

SUMMARY: The United States Postal Service is proposing to modify nine of its General Privacy Act Systems of Records: USPS 100.000, General Personnel Records; USPS 100.100, Recruiting, Examining, and Placement Records; USPS 100.200, Employee Performance Records; USPS 100.300, Employee Development and Training Records; USPS 100.400, Personnel Compensation and Payroll Records; USPS 100.500, Personnel Resource Management Records; USPS 100.600, Personnel Research Records; USPS 100.700, Medical Records and Related Documents; and USPS 100.950, Employee Assistance Program (EAP) Records. These modifications reflect the changes that have been made in changing from a primarily paper-based record keeping system to an electronic record keeping system.

The United States Postal Service is also amending one Customer Privacy Act System of Records, USPS 810.200, www.usps.com Ordering, Payment, and Fulfillment, which was last updated on May 12, 2009 (74 FR 22186), where the standard routine uses were mistakenly deleted. The change to USPS 810.200 will add the standard routine uses that applied to the system prior to the May 12, 2009, revisions, and will update the retention period from 6 months to 12 months for online user information, and update one of the titles in the System Manger(s) and Address section.

Lastly, the United States Postal Service is adding a new system of records to its General Privacy Act Systems of Records: 500.050 HSPD-12: Identity Management System is being established to support implementation of HSPD-12 identification cards.

DATES: The revision will become effective without further notice on July 18, 2011 unless comments received on or before that date result in a contrary determination.

ADDRESSES: Comments may be mailed or delivered to the Records Office, United States Postal Service, 475 L'Enfant Plaza, SW., Room 4541, Washington, DC 20260-2201. Copies of all written comments will be available at this address for public inspection and photocopying between 8 a.m. and 4 p.m., Monday through Friday.

FOR FURTHER INFORMATION CONTACT: Jane Eyre, Manager, Records Office, 202-268-2608.

SUPPLEMENTARY INFORMATION: This notice is in accordance with the Privacy Act requirement that agencies publish their amended systems of records in the Federal Register when there is a revision, change, or addition. The Postal Service has reviewed its systems of records and has determined that the Human Resource records system should be revised to modify existing routine uses of records maintained in the system, including system location; categories of individuals; categories of records in the system; purposes; routine uses of records maintained in the system, including categories of users and the purposes of such uses; storage; retrievability; safeguards; retention and disposal; system manager(s) and address; notification procedure; and record source categories of such uses.

I. Background

In 2005, Human Resources and the Privacy Office partnered under the Human Capital Steering Committee to improve all general (non-customer) systems of records. General systems cover all employee systems. Since that last revision, the Postal Service has undertaken a total modernization of how it collects and stores information about employees. The Postal Service has automated personnel actions, implemented an electronic Official Personnel Folder (eOPF), and changed how it tests and hires employees. Redesign of all the processes requires changes to the current systems of records. The Privacy Office worked closely with systems managers to develop the revised general systems. These changes are proposed for the reasons discussed below.

II. Rationale for Changes to USPS Privacy Act Systems of Records

Many businesses and other Federal agencies have automated their Human Resource (HR) processes in order to maintain competitiveness and ensure the most efficient use of resources. The Postal Service, like any other large organization, must cope with the constant demand for information from employees, management, and third parties. These applications assist the Postal Service in ensuring accuracy of data and quick retrieval of data in order to meet that demand. In addition, the introduction of automated systems provides improved service, quick development of reports required for benefits administration, government requirements, and strategic planning. Customized reports enhance analysis, forecasting, and planning.

The other changes outlined update retention periods, administrative changes, and system locations due to the abolishment of local HR offices and movement to a central location for all HR processing in Greensboro, North Carolina. The revisions to 810.200, the only customer system of records in this notice, are required due an inadvertent error that occurred when the system of records was last revised on May 12, 2009, and the routine uses were deleted. This change reinstates those routine uses. Also, 810.200 has an updated retention period from 6 months to 12 months for online user information and an update to one of the titles in the System Manager(s) and Address section.

III. Description of Changes to Systems of Records

The Postal Service is modifying ten systems of records: USPS 100.000, General Personnel Records; USPS 100.100, Recruiting, Examining, and Placement Records; USPS 100.200, Employee Performance Records; USPS 100.300, Employee Development and Training Records; USPS 100.400, Personnel Compensation and Payroll Records; USPS 100.500, Personnel Resource Management Records; USPS 100.600, Personnel Research Records; USPS 100.700, Medical Records and Related Documents; USPS 100.950, Employee Assistance Program (EAP) Records; and USPS 810.200 www.usps.com Ordering, Payment, and Fulfillment. Pursuant to 5 U.S.C. 552a(e) (11), interested persons are invited to submit written data, views, or arguments on this proposal. A report of the proposed modification has been sent to Congress and to the Office of Management and Budget for their evaluation. The Postal Service does not expect this amended notice to have any adverse effect on individual privacy rights. The Postal Service proposes amending the systems as shown below:

USPS 100.000

System Name: General Personnel Records.

USPS 100.100

System Name: Recruiting, Examining, and Placement Records.

USPS 100.200

System Name: Employee Performance Records.

USPS 100.300

System Name: Employee Development and Training Records.

USPS 100.400

System Name: Personnel Compensation and Payroll Records.

USPS 100.500

System Name: Personnel Resource Management Records.

USPS 100.600

System Name: Personnel Research Records.

USPS 100.700

System Name: Medical Records and Related Documents.

USPS 100.950

System Name: Employee Assistance Program (EAP) Records.

USPS 810.200

System Name: www.usps.com Ordering, Payment, and Fulfillment.

IV. Description of New System of Records

The United States Postal Service is adding a new system of records to its General Privacy Act Systems of Records Management System. This new system of records is being established to support implementation of HSPD-12 identification cards. The Postal Service proposes adding the system as shown below:

USPS 500.050

SYSTEM NAME:

HSPD-12: Identity Management System (IDMS).

Accordingly, the Postal Service proposes changes in existing systems of records and addition of a new system of records as follows:

USPS 100.000

SYSTEM NAME:

General Personnel Records.

SYSTEM LOCATION:

[CHANGE TO READ]

All USPS facilities and personnel offices; Integrated Business Solutions Services Centers; National Personnel Records Center; Human Resources Information Systems; Human Resources Shared Services Center; Headquarters; Computer Operations Service Centers; and contractor sites.

CATEGORIES OF RECORDS IN THE SYSTEM:

* * * * *

[CHANGE TO READ]

2. Official Personnel Folder (OPF) or eOPF (electronic version): Records related to appointment support, prior federal civilian employment, postal employment, personnel actions, anniversary dates, retirement, benefits, and compensation.

3. Automated employee information: Records generated, approved, and stored by electronic means such as Notification of Personnel Actions, health benefit elections, tax withholding changes, and address changes.

4. Reference copies of all discipline or adverse actions: Letters of warning; notices of removal, suspension and/or reduction in grade or pay; letters of decisions; and documents relating to these actions. These are used only to refute inaccurate statements by witnesses before a judicial or administrative body. They may not be maintained in the employee's OPF or eOPF but must be maintained in a separate file by Labor Relations.

* * * * *

[INSERT NEW TEXT]

8. Level 2 supervisors' notes: Records of discussions, letters of warning, and any other relevant official records being maintained at the supervisor's discretion for the purpose of enabling effective management of personnel. (A level 2 supervisor directly supervises bargaining unit employees.)

PURPOSE(S):

* * * * *

[CHANGE TO READ]

2. To maintain a source of readily available information on employees for administrative purposes.

* * * * *

STORAGE:

[CHANGE TO READ]

Automated database, computer storage media, digital files, and paper files. Duplicates of records in the OPF or eOPF and automated employee data may be maintained for localized employee administration or supervision. Records may be filed at offices other than where OPF or eOPF is located, or may be duplicated at a site closer to where the employee works.

SAFEGUARDS:

[INSERT NEW TEXT]

Paper records, computers, and computer storage media are located in controlled-access areas under supervision of program personnel. Access to these areas is limited to authorized personnel, who must be identified with a badge. Nonbargaining unit employee discipline, grievance, and appeals records maintained outside the OPF (hard or soft copy) are kept in locked filing cabinets or secured record storage rooms; and related automated records are protected with password security. Computers are protected by mechanical locks, card key systems, or other physical access control methods. The use of computer systems is regulated with installed security software, computer logon identifications, and operating system controls including access controls, terminal and transaction logging, and file management software.

RETENTION AND DISPOSAL:

[CHANGE TO READ]

1. Permanent OPF or eOPF records are permanently retained. Temporary OPF or eOPF records are generally retained 2 years and are purged upon the employee's separation from USPS.

2. Except as otherwise provided by a collective bargaining agreement, original or copies of discipline or adverse actions are maintained up to 2 years; or, if an additional or more recent disciplinary action has been taken, for a longer period. After 2 years, or lesser time specified in the decision, the employee may request the disciplinary record be purged from the OPF or eOPF provided no subsequent discipline was issued. Records that support a PS Form 50, Notification of Personnel Action, e.g., the separation of an employee for cause or the resignation of an employee pending charges, are considered permanent records and may not be purged at the request of an employee.

3. Reference copies of discipline or adverse actions. These records are kept for historical purposes and are not to be used for decisions about the employee. The retention of these records may not exceed 10 years beyond the employee's separation date. The records are maintained longer if the employee is rehired during the 10-year period. They may not be maintained in the employee's OPF or eOPF, but must be maintained in a separate file by Labor Relations.

* * * * *

SYSTEM MANAGER(S) AND ADDRESS:

* * * * *

[INSERT NEW TEXT]

Director of Human Resources, USPS OIG, 1735 N. Lynn Street, 10th floor, Arlington, VA 22209.

NOTIFICATION PROCEDURE:

[CHANGE TO READ]

Individuals wanting to know if information about them is maintained in this system must address inquiries to the facility head where currently or last employed. Headquarters employees must submit inquiries to Corporate Personnel Management, 475 L'Enfant Plaza, SW., Washington, DC 20260. Inquiries must include full name, Social Security Number or Employee Identification Number, name and address of facility where last employed, and the dates of USPS employment.

* * * * *

RECORD SOURCE CATEGORIES:

[INSERT NEW TEXT]

Employees; employees' supervisors; USPS customers; law enforcement agencies; individuals who are personal references; former employers, including other federal agencies; and other systems of records.

* * * * *

USPS 100.100

SYSTEM NAME:

Recruiting, Examining, and Placement Records.

SYSTEM LOCATION:

[CHANGE TO READ]

Pre-employment investigation records are located at USPS Human Resources (HR) offices and contractor locations, except for drug screening and medical examination records, which are maintained in USPS medical facilities and designee offices.

Recruiting, examining, and placement records are located at USPS HR offices, Headquarters, Human Resources Shared Services Center, Integrated Business Solutions Services Centers, the Bolger Center for Leadership Development, the National Center for Employee Development, and contractor locations.

CATEGORIES OF INDIVIDUALS COVERED BY THE SYSTEM:

[INSERT NEW TEXT]

Current and former USPS employees, applicants for employment, and potential applicants with candidate profiles.

CATEGORIES OF RECORDS IN THE SYSTEM:

[CHANGE TO READ]

1. Applicant, potential applicants with candidate profiles, and employee information: Name(s), Social Security Number(s), Candidate Identification Number, Employee Identification Number, date(s) of birth, postal assignment or vacancy/job posting history information, work contact information, home address(es) and phone number(s), finance number(s), duty location, and pay location.

2. Pre-employment investigation information: Records compiled by USPS, including criminal, employment, military, and driving records; drug screening and medical assessment results. Also includes Special Agency Check with Inquiries (SACI) and National Agency Check with Inquiry (NACI): Investigative records requested by USPS and compiled by the Office of Personnel Management (OPM) for newly hired employees, including postal inspectors' investigative reports.

3. Recruiting, examining, and placement information: Records related to candidate profiles, applications, test results, interview documentation, and suitability screening.

PURPOSE(S):

* * * * *

[CHANGE TO READ]

2. To provide managers, HR personnel, and medical officers with information for recruiting and recommending appointment of qualified individuals.

STORAGE:

[INSERT NEW TEXT]

Automated database, computer storage media, digital files, and paper files.

RETRIEVABILITY:

[CHANGE TO READ]

By applicant or employee name, Social Security Number, Candidate Identification Number, Employee Identification Number, duty or pay location, or posting/vacancy to which application was made.

RETENTION AND DISPOSAL:

* * * * *

[CHANGE TO READ]

2. Candidate information and Candidate Identification Number are retained for a minimum of 2 years. Vacancy files, including applicant/employee name, identification number, posting/vacancy number, and information supplied by applicant/employee in response to the vacancy posting, are retained 5 years. Employment registers are retained 10 years. Certain forms related to a successful applicant are filed in the electronic Official Personnel Folder as permanent records.

3. Paper examining answer sheets are retained 6 months; and computer media copies are retained 10 years. Scanned Maintenance Selection System forms are retained 10 years, and related hiring lists are retained 5 years.

* * * * *

NOTIFICATION PROCEDURE:

[CHANGE TO READ]

Individuals wanting to know if information about them is maintained in this system must address inquiries to Human Resources Shared Services Center, P.O. Box 970400, Greensboro, NC 27497-0400. Inquiries must include full name, Candidate Identification Number (as provided during the application process) or Employee Identification Number, name and address of facility where last employed, and dates of USPS employment or date of application.

* * * * *

RECORD SOURCE CATEGORIES:

[INSERT NEW TEXT]

Applicants; potential applicants with candidate profiles; OPM; police, driving, and military records; former employers and named references; medical service providers; school officials; other federal agencies; and state divisions of vocational rehabilitation counselors.

* * * * *

USPS 100.200

SYSTEM NAME:

Employee Performance Records.

CATEGORIES OF INDIVIDUALS COVERED BY THE SYSTEM:

[CHANGE TO READ]

Current and former USPS employees, including supervisors and managers who are responsible for a work location.

CATEGORIES OF RECORDS IN THE SYSTEM:

* * * * *

[CHANGE TO READ]

2. Employee performance information: Records related to individual performance evaluation; reports about supervisors and managers who are responsible for a work location; employee recognition; and safe driver awards.

STORAGE:

[CHANGE TO READ]

Automated database, computer storage media, digital files, and paper files.

RETENTION AND DISPOSAL:

[CHANGE TO READ]

1. Pay for performance evaluation records are retained 5 years. Individual performance evaluations are retained 5 years or until separation of the employee, whichever comes first.

2. Incentive award records are retained 7 years. Length of service award records are retained 1 year. Non-USPS awards are retained 2 years. Letters of commendation and appreciation (excluding permanent copies filed in the OPF or eOPF) are retained 2 years.

3. Employee survey records are retained 5 years.

4. Safe Driver Award records are retained 2 years from date of separation, expiration of license, rescission of authorization, transfer of driver into a nondriving status, or other transfer, whichever comes first.

* * * * *

NOTIFICATION PROCEDURE:

[CHANGE TO READ]

Individuals wanting to know if information about them is maintained in this system must address inquiries to the facility head where currently or last employed. Headquarters employees must submit inquiries to Corporate Personnel Management, 475 L'Enfant Plaza, SW., Washington, DC 20260. Inquiries must include full name, Social Security Number or Employee Identification Number, name and address of facility where last employed, and dates of USPS employment.

* * * * *

USPS 100.300

SYSTEM NAME:

Employee Development and Training Records.

SYSTEM LOCATION:

[CHANGE TO READ]

Management training centers, Integrated Business Solutions Services Centers, and other USPS facilities where career development and training records are stored.

CATEGORIES OF RECORDS IN THE SYSTEM:

[CHANGE TO READ]

1. Employee information: Name, Social Security Number, Employee Identification Number, demographic information, photograph, years of service, retirement eligibility, postal assignment information, work contact information, finance number(s), duty location, and pay location.

2. Employee development and training information: Records related to career development, work history, skills bank participation, USPS and non-USPS—sponsored training, examinations, evaluations of training, and USPS lodging when a discrepancy report is filed against the student about unauthorized activities while occupying the room.

PURPOSE(S):

[CHANGE TO READ]

1. To provide managers, supervisors, and training and development professionals with decision-making information for employee career development, succession planning, training, and assignment.

* * * * *

STORAGE:

[CHANGE TO READ]

Automated database, computer storage media, digital files, and paper files.

RETENTION AND DISPOSAL:

* * * * *

[CHANGE TO READ]

2. Records related to succession planning and individual development planning are retained 10 years.

* * * * *

NOTIFICATION PROCEDURE:

[CHANGE TO READ]

Individuals wanting to know if information about them is maintained in this system must address inquiries to the facility head where currently or last employed. Headquarters employees must submit inquiries to Corporate Personnel Management, 475 L'Enfant Plaza, SW., Washington, DC 20260. Inquiries must include full name, Social Security Number or Employee Identification Number, name and address of facility where last employed, and dates of USPS employment.

* * * * *

USPS 100.400

SYSTEM NAME:

Personnel Compensation and Payroll Records.

SYSTEM LOCATION:

[CHANGE TO READ]

USPS Area and District Human Resources offices, the Human Resources Shared Services Center, Integrated Business Solutions Services Centers, Computer Operations Services Centers, Accounting Services Centers, other area and district facilities, Headquarters, contractor sites, and all organizational units.

CATEGORIES OF INDIVIDUALS COVERED BY THE SYSTEM:

[CHANGE TO READ]

1. Current and former USPS employees and Postmaster Relief/Leave Replacement employees.

* * * * *

CATEGORIES OF RECORDS IN THE SYSTEM:

[CHANGE TO READ]

* * * * *

2. Compensation and payroll information: Records related to payroll, payments, deductions, compensation, and benefits; uniform items purchased; proposals and decisions under monetary awards; suggestion programs and contests; injury compensation; monetary claims for personal property loss or damage; and garnishment of wages.

PURPOSE(S):

* * * * *

[CHANGE TO READ]

5. To administer monetary awards programs and employee contests.

* * * * *

ROUTINE USES OF RECORDS MAINTAINED IN THE SYSTEM, INCLUDING CATEGORIES OF USERS AND THE PURPOSES OF SUCH USES:

* * * * *

[DELETE THE FOLLOWING]

g. Disclosure of records about current and former employees may be made to the Selective Service System under an approved computer matching program to identify individuals eligible for registration under the Military Selective Service Act, to determine whether those individuals have complied with registration requirements and to enforce compliance when necessary.

h. Disclosure of records about current or recently terminated Postal Service employees who live or work in Colorado may be made to the Colorado Bureau of Investigation under an approved computer matching program to identify currently or recently terminated employees who have been arrested for violations of law that relate to postal offenses and/or suitability for continued employment, or who are fugitives, and to assist state or local agents to apprehend fugitives.

[RELETTER THE REMAINING PARAGRAPHS FROM I THROUGH L AS G THROUGH J]

STORAGE:

[CHANGE TO READ]

Automated database, computer storage media, digital files, and paper files.

RETENTION AND DISPOSAL:

* * * * *

[CHANGE TO READ]

3. Records of approved monetary awards are retained 7 years. Records of award submissions not approved are retained 90 days.

[RENUMBER PARAGRAPHS 4 THROUGH 6 AS 5 THROUGH 7]

[ADD TEXT]

4. Automated records of employee ideas are maintained for 7 years.

SYSTEM MANAGER(S) AND ADDRESS:

[ADD TEXT]

Chief Human Resource Officer and Executive Vice President, United States Postal Service, 475 L'Enfant Plaza, SW., Washington, DC 20260.

* * * * *

[CHANGE TO READ]

Vice President, Controller, United States Postal Service, 475 L'Enfant Plaza, SW., Washington, DC 20260.

NOTIFICATION PROCEDURE:

[CHANGE TO READ]

Individuals wanting to know if information about them is maintained in this system must address inquiries to the facility head where currently or last employed. Headquarters employees must submit inquiries to Corporate Personnel Management, 475 L'Enfant Plaza, SW., Washington, DC 20260. Inquiries must include full name, Social Security Number or Employee Identification Number, name and address of facility where last employed, and dates of USPS employment.

* * * * *

USPS 100.500

SYSTEM NAME:

Personnel Resource Management Records.

STORAGE:

[CHANGE TO READ]

Automated database, computer storage media, digital files, and paper files.

RETENTION AND DISPOSAL:

[CHANGE TO READ]

Resource management records related to leave application, time and attendance, and light duty status are retained 3 years. Family and Medical Leave Records are retained 5 years. Other categories of resource management records are retained 1 year. Records existing on paper are destroyed by burning, pulping, or shredding. Records existing on computer storage media are destroyed according to the applicable USPS media sanitization practice.

NOTIFICATION PROCEDURE:

[CHANGE TO READ]

Individuals wanting to know if information about them is maintained in this system must address inquiries to the facility head where currently or last employed. Headquarters employees must submit inquiries to Corporate Personnel Management, 475 L'Enfant Plaza, SW., Washington, DC 20260. Inquiries must include full name, Social Security Number or Employee Identification Number, name and address of facility where last employed, and dates of USPS employment.

* * * * *

USPS 100.600

SYSTEM NAME:

Personnel Research Records.

SYSTEM LOCATION:

[CHANGE TO READ]

USPS Headquarters, Integrated Business Solutions Services Centers, and contractor sites.

CATEGORIES OF INDIVIDUALS COVERED BY THE SYSTEM:

[CHANGE TO READ]

Potential applicants for USPS employment, applicants for USPS employment, USPS employee applicants for reassignment and/or promotion, and employees whose work records or solicited responses are used in research projects.

CATEGORIES OF RECORDS IN THE SYSTEM:

[CHANGE TO READ]

1. Applicant, potential applicant with candidate profile, and employee information: Name, Social Security Number, Candidate Identification Number, or respondent identification code, place of birth, postal assignment or vacancy/posting information, work contact information, home address and phone number(s), finance number(s), duty location, and pay location.

2. Personnel research information: Records related to race, ethnicity, sex, tenure, age, and disability status (only if volunteered by the individual); research project identifiers; and other information pertinent to personnel research.

PURPOSE(S):

[CHANGE TO READ]

1. To support research and development efforts on personnel assessment instruments, recruitment efforts, workforce analysis, and evaluation of human resource management practices.

2. To assess the impact of selection decisions on applicants in race, ethnicity, sex, tenure, age, and disability categories.

ROUTINE USES OF RECORDS MAINTAINED IN THE SYSTEM, INCLUDING CATEGORIES OF USERS:

[CHANGE TO READ]

Standard routine uses 1. through 9. apply.

[DELETE TEXT]

a. Disclosure of records about applicants for employment with USPS may be made to the Selective Service System under an approved computer matching program to identify individuals eligible for registration under the Military Selective Service Act, to determine whether those individuals have complied with registration requirements, and to enforce compliance when necessary.

STORAGE:

[CHANGE TO READ]

Automated database, computer storage media, digital files, and paper files.

RETRIEVABILITY:

[CHANGE TO READ]

By individual name, Social Security Number, Candidate Identification Number, Employee Identification Number, or respondent identification code, research project identifiers, postal assignment or vacancy/posting information, duty or pay location, or location where data were collected.

RETENTION AND DISPOSAL:

[CHANGE TO READ]

Retention depends on the type of research project, but does not exceed 10 years. Records existing on paper are destroyed by burning, pulping, or shredding. Records existing on computer storage media are destroyed according to the applicable USPS media sanitization practice.

NOTIFICATION PROCEDURE:

[CHANGE TO READ]

Individuals wanting to know if information about them is maintained in this system of records must address inquiries to the Vice President, Employee Resource Management, 475 L'Enfant Plaza, SW., Washington, DC 20260. In cases of studies involving information not collected through an examination, individuals must address inquiries to the system manager. Inquiries must contain full name; Candidate Identification Number, Employee Identification Number, or respondent identification code; and date and location of their participation.

RECORD SOURCE CATEGORIES:

[CHANGE TO READ]

USPS employees, applicants, and potential applicants with candidate profiles who provide information to personnel research programs and other systems of records.

* * * * *

USPS 100.700

SYSTEM NAME:

[CHANGE TO READ]

Medical Records and Related Documents.

SYSTEM LOCATION:

[CHANGE TO READ]

USPS medical facilities, designee offices, and National Personnel Records Center.

CATEGORIES OF INDIVIDUALS COVERED BY THE SYSTEM:

* * * * *

[CHANGE TO READ]

2. Individuals who have been offered employment but were determined medically unsuitable or who declined the offer.

[DELETE TEXT]

3. Headquarters employees who participate in the Corporate Health and Fitness Program.

4. Employees who volunteer to join the USPS Blood Donor Program.

[RENUMBER REMAINING TEXT TO READ]

3. Current and former USPS employees who are or were required to have a commercial driver's license (CDL) or are otherwise subject to controlled substance and alcohol testing.

[ADD TEXT]

4. Applicants and current or former USPS employees, or persons who request reasonable accommodation on behalf of an applicant or employee.

CATEGORIES OF RECORDS IN THE SYSTEM:

[CHANGE TO READ]

1. Employee or applicant information: Name, Social Security Number, Employee Identification Number, Candidate Identification Number, date of birth, postal assignment information, work contact information, finance number(s), duty location, and pay location.

* * * * *

[DELETE TEXT]

3. Headquarters Corporate Health and Fitness Program: Records volunteered about lifestyle and health.

4. Voluntary blood donation information: Blood type and date of each donation.

[RENUMBER REMAINING TEXT STARTING WITH 3]

* * * * *

[ADD TEXT]

4. Reasonable Accommodation folders: These folders document the decision-making process and contain records related to requests for Reasonable Accommodation.

PURPOSE(S):

[CHANGE TO READ]

1. Medical information maintained in the Employee Medical Folder is used to, but is not limited to, support hiring decisions and determine job-related medical suitability, fitness for duty, and Family Medical Leave Act documentation.

[DELETE TEXT]

2. To provide for a Headquarters health promotion program.

3. To provide the USPS Blood Donation Program with a record of donations.

* * * * *

[RENUMBER REMAINING TEXT STARTING WITH 2]

* * * * *

[ADD TEXT]

4. To assess disability retirement requests.

5. To assist in making determinations about Reasonable Accommodation.

ROUTINE USES OF RECORDS MAINTAINED IN THE SYSTEM, INCLUDING CATEGORIES OF USERS AND THE PURPOSES OF SUCH USES:

[DELETE TEXT]

b. Blood donor records may be disclosed to the American Red Cross in response to an inquiry for available donors having a particular blood type.

STORAGE:

[CHANGE TO READ]

Automated database, computer storage media, digital files, and paper files.

RETRIEVABILITY:

[CHANGE TO READ]

By employee or applicant name, Social Security Number, Employee Identification Number, Candidate Identification Number, or duty or pay location.

RETENTION AND DISPOSAL:

* * * * *

[CHANGE TO READ]

2. Candidate medical information for applicants determined to be medically unsuitable for the position offered is retained 2 years in hard copy. Computer data is retained 3 years in a history database.

3. Documentation supporting applicant requests for reasonable accommodation for participation in the hiring or assessment process are maintained for 2 years in hard copy. Computer records of such requests are retained 3 years.

4. Reasonable Accommodation Committee and District Reasonable Accommodation Committee records are maintained for the duration of the employee's tenure with the USPS or until any appeals are adjudicated, whichever is longer. After the official use for these records has been satisfied, the records are to be placed in a sealed envelope, labeled as “Reasonable Accommodation Committee Records,” and placed in the Employee Medical Folder (EMF) and retained in accordance with the official retention period for the EMFs.

5. Alcohol test results indicating a breath alcohol concentration of 0.02 or greater, verified positive controlled substance test results, refusals, medical review officer's evaluations, employee statements, and substance abuse professionals' evaluations and referrals are retained 5 years. Alcohol test results indicating a breath alcohol concentration of less than 0.02, and negative and canceled controlled substance test results, are retained 1 year.

NOTIFICATION PROCEDURE:

[CHANGE TO READ]

Individuals wanting to know if information about them is maintained in this system must address inquiries to the facility head where currently or last employed. Headquarters employees must submit inquiries to the National Medical Director, Health and Resource Management, 475 L'Enfant Plaza, SW., Washington, DC 20260. Individuals who requested accommodation for an entrance examination or assessment must submit inquiries to the Manager of Selection, Evaluation, and Recognition, 475 L'Enfant Plaza, SW., Washington, DC 20260. Inquiries must include full name, Social Security Number or Employee Identification Number, name and address of facility where last employed, and dates of USPS employment or date of application.

RECORD SOURCE CATEGORIES:

[CHANGE TO READ]

Employees, applicants for employment; applicant or employee health care provider(s), USPS and Department of Veterans Affairs medical staff, USPS designee testing facilities, substance abuse professionals, and designated contractors.

* * * * *

USPS 100.950

SYSTEM NAME:

Employee Assistance Program (EAP) Records.

SYSTEM LOCATION:

[CHANGE TO READ]

EAP Offices at Philadelphia and Los Angeles USPS facilities. This system does not include records maintained by the supplier of EAP services as outlined in the USPS EAP contract.

STORAGE:

[CHANGE TO READ]

Automated database, computer storage media, digital files, and paper files.

RETENTION AND DISPOSAL:

[CHANGE TO READ]

Records are retained 3 years from the date of the participant's last activity. EAP contractor records are retained 7 years from the date of the participant's last activity or until litigation is resolved. Records existing on paper are destroyed by burning, pulping, or shredding. Records existing on computer storage media are destroyed according to the applicable USPS media sanitization practice.

SYSTEM MANAGER(S) AND ADDRESS:

[CHANGE TO READ]

Vice President, Labor Relations, United States Postal Service, 475 L'Enfant Plaza, SW., Washington, DC 20260.

* * * * *

NOTIFICATION PROCEDURE:

* * * * *

[CHANGE TO READ]

For records maintained by the provider of USPS EAP services through contract, individuals must inquire as instructed by the provider.

* * * * *

USPS 810.200

SYSTEM NAME:

http://www.usps.com Ordering, Payment, and Fulfillment.

ROUTINE USES OF RECORDS IN THE SYSTEM, INCLUDING CATEGORIES OF USERS AND THE PURPOSES OF SUCH USES:

[INSERT]

Standard routine uses 1. through 7., 10., and 11. apply. In addition:

* * * * *

RETENTION AND DISPOSAL:

* * * * *

[CHANGE TO READ]

3. Online user information may be retained for 12 months.

* * * * *

SYSTEM MANAGER(S) AND ADDRESS:

[CHANGE TO READ]

President and Chief Marketing/Sales Officer, United States Postal Service, 475 L'Enfant Plaza, SW., Washington, DC 20260.

* * * * *

[ADD NEW TEXT/SYSTEM OF RECORD]

USPS 500.050

SYSTEM NAME:

HSPD-12: Identity Management System (IDMS).

SYSTEM LOCATION:

Records relating to the Identity Management System are maintained by a contractor at the contractor's site. This does not include building or computer access records.

CATEGORIES OF INDIVIDUALS COVERED BY THE SYSTEM:

1. Individuals with authorized USPS law enforcement or emergency response duties, including postal inspectors, Office of Inspector General criminal investigators, and USPS executives and their designees.

CATEGORIES OF RECORDS IN THE SYSTEM:

1. Cardholder information: Records related to issuance of identity management credentials, including name, date of birth, Social Security Number (SSN), organizational and employee affiliations, fingerprints, digital color photograph, work e-mail address, and phone number(s) as well as additional verification and demographic information. Other types of data contained in the system include federal emergency response official status; law enforcement official status; and Personal Identity Verification (PIV) Card issuance location. Records in the IDMS needed for credential management for enrolled individuals in the PIV Program include: PIV Card serial number (all past and current Card ID numbers are retained); digital certificate(s) serial number; PIV Card issuance and expiration dates; PIV Card personal identification number (PIN); Cardholder Unique Identification Number (CHUID); card management keys.

2. Card-swipe records: Records related to employees and visitors who enter and leave participating federal facilities and disaster recovery areas. This does not include direct tracking of access to USPS facilities.

3. Computer access authorization information: Records related to computer users, including logon ID; Social Security Number, Employee Identification Number, or other assigned identifier; employment status information; and extent of access granted.

AUTHORITY FOR MAINTENANCE OF THE SYSTEM:

39 U.S.C. 401, and Homeland Security Presidential Directive 12, Policy for a Common Identification Standard for Federal Employees and Contractors, August 27, 2004.

PURPOSE(S):

1. To assist in making determinations for access to other federal facilities.

ROUTINE USES OF RECORDS MAINTAINED IN THE SYSTEM, INCLUDING CATEGORIES OF USERS AND THE PURPOSES OF SUCH USES:

Standard routine uses 1. through 9. apply.

POLICIES AND PRACTICES FOR STORING, RETRIEVING, ACCESSING, RETAINING, AND DISPOSING OF RECORDS IN THE SYSTEM:

STORAGE:

Automated database, computer storage media, digital files, and paper files.

RETRIEVABILITY:

1. Records about building access are retrieved by name or Cardholder Unique Identifier Number.

2. Cardholder information may be retrieved by name, logon ID, or other unique identifier of the individual. Note: While many Federal agencies utilize the IDMS, USPS will only have access to data on its employees enrolled in the system (not to any other agency's data).

SAFEGUARDS:

All biographic and biometric data collected prior to and during the enrollment process is transmitted to the PIV IDMS over a private network in an encrypted format. Facilities and equipment are secured by limiting physical access to the workspace and system, and by requiring an appropriate verification of identity. Where appropriate, this method uses the PIV card providing up to three factors of authentication. Where necessary, this method also consists of two components (e.g., user id + password). Physical security measures are employed to protect enrollment equipment, facilities, material, and information systems, including locks, ID badges, fire protection, redundant power and climate control to protect IT equipment. The PIV IDMS sends confirmed enrollment information to the card production facility via a secure FTP connection. Cards that are not active cannot be used for access to federal facilities. Certifications are revoked when they are reported lost, stolen, damaged beyond use, or when a cardholder has failed to meet the terms and conditions of enrollment. Cards will be deactivated upon collection of damaged cards or if the employee no longer requires a PIV card.

RETENTION AND DISPOSAL:

1. Building access records are retained according to the policies of the agencies visited.

2. Records of computer access privileges and authorization information are retained 5 years after the cardholder is separated from the Postal Service.

Data will be disposed of according to the requirements of National Institute of Standards and Technology (NIST) Special Publication (SP) 800-88 Guidelines for Media Sanitization. Magnetic media will be degaussed and then destroyed; paper records will be stored in locked bins, transported securely via bonded courier, and shredded.

SYSTEM MANAGER(S) AND ADDRESS:

For collection of cardholder information: Chief Postal Inspector, United States Postal Inspection Service, 475 L'Enfant Plaza, SW., Fl 3, Washington, DC 20260.

For records relating to the Identity Management System and identification cards: Program Manager, HSPD-12 Managed Service Office, Federal Acquisition Service (FAS), General Services Administration, 10304 Eaton Place Fl 3, Fairfax, VA 22030.

For records of building access to other federal buildings, contact that agency.

NOTIFICATION PROCEDURE:

Inquiries for records about building access must be addressed to the facility head. Inquiries about access to the IDMS are to be directed to the Program Manager, Program Manager, HSPD-12 Managed Service Office, Federal Acquisition Service (FAS), General Services Administration, 10304 Eaton Place Fl 3, Fairfax, VA 22030. Inquiries regarding collection of cardholder information are to be directed to the Chief Postal Inspector, United States Postal Inspection Service, 475 L'Enfant Plaza, SW., Fl 3, Washington, DC 20260. Inquiries must include full name, Social Security Number or Employee Identification Number, and period of employment or residency at the location.

RECORD ACCESS PROCEDURES:

Requests for access must be made in accordance with the Notification Procedure above and USPS Privacy Act regulations regarding access to records and verification of identity under 39 CFR 266.6.

CONTESTING RECORD PROCEDURES:

See Notification Procedure and Record Access Procedures above.

RECORD SOURCE CATEGORIES:

Employees, subject individuals, former employers, and other systems of records.

* * * * *

[END DOCUMENT]

Stanley F. Mires,
Chief Counsel, Legislative.

[FR Doc. 2011-15038 Filed 6-16-11; 8:45 am]

BILLING CODE 7710-12-P